DEPARTMENT OF LABOR

Employment and Training Administration

[TA-W-51,301]

Edgcomb Metals Roseville, MI; Notice of Termination of Investigation

Pursuant to section 221 of the Trade Act of 1974, an investigation was initiated on March 25, 2003, in response to a petition filed by the United Steelworkers of America, District 2 on behalf of workers at Edgcomb Metals, Roseville, Michigan.

The union official submitting the petition has requested that the petition be withdrawn. Consequently, further investigation in this case would serve no purpose and the investigation has been terminated.

Signed at Washington, DC, this 7th day of April 2003.
Elliott S. Kushner,
Certifying Officer, Division of Trade Adjustment Assistance.

[FR Doc. 03-10357 Filed 4-25-03; 8:45 am]

BILLING CODE 4510-30-P